DEPARTMENT OF STATE

[Public Notice 5767]

Shipping Coordinating Committee; Notice of Meeting

The Shipping Coordinating Committee (SHC) will conduct an open meeting at 1 p.m. on Tuesday, June 12, 2007, in Room 4420, at U.S. Coast Guard Headquarters, 2100 2nd Street SW., Washington, DC 20593-0001. The purpose of the meeting is to finalize preparations for the 57th Session of the Technical Co-operation Committee (TCC) of International Maritime Organization (IMO), to be held at the International Coffee Organization, 22 Berners Street, London, England, from June 18th to 21st, and the 98th Session of Council to be held at the Royal Horticulture Halls and Conference Center, 80 Vincent Square, London, England, from June 25th to 29th. Discussion at this open public meeting will focus on papers received and draft U.S. positions.

Items of particular interest for the 57th Session of the Technical Co-operation Committee (TCC) include:

—Reports and financing of the Integrated Technical Co-operation Program (ITCP);

—Links between the ITCP and the Millennium Development Goals;

—Report on the planned output of the Committee for 2006-2007 and consideration of the planned output of the Committee for 2008-2009 and:

—Election of the Chairman and the Vice-Chairman for 2008.

Items of particular interest for the 98th Session of Council include:

—Reports of Committees;

—Resource management;

—Strategy and planning;

—Voluntary IMO member state audit scheme;

—Implementation of Article 17 of the IMO Convention, and;

—Status of the Convention and membership of the Organization.

Members of the public may attend these meetings up to the seating capacity of the room. To facilitate the building security process, those who plan to attend should call or send an e-mail two days before the meeting to Kevin.B.Ferrie@uscg.mil. Interested persons may also seek information by writing: Director of National and International Standards, U.S. Coast Guard Headquarters, Commandant (CG-3PS), room 1218, 2100 Second Street, SW., Washington, DC 20593-0001 or by calling: (202) 372-1357.

Dated: May 15, 2007.
Michael E. Tousley,
Executive Secretary, Shipping Coordinating Committee, Department of State.

[FR Doc. E7-10125 Filed 5-24-07; 8:45 am]

BILLING CODE 4710-09-P